DEPARTMENT OF ENERGY

Federal Energy Regulatory Commission

[Project No. 10624-026]

French Hydro LLC; Notice of Availability of Environmental Assessment

In accordance with the National Environmental Policy Act of 1969 and the Federal Energy Regulatory Commission's (Commission or FERC) regulations, 18 CFR part 380, the Office of Energy Projects has reviewed the application for a subsequent license for the French Paper Hydroelectric Project (project) and has prepared an Environmental Assessment (EA). The project is located on the St. Joseph River in the City of Niles, Berrien County, Michigan, and does not occupy federal land.

The EA analyzes the potential environmental effects of continuing to operate the project and concludes that issuing a subsequent license for the project, with appropriate environmental measures, would not constitute a major federal action significantly affecting the quality of the human environment.

The Commission provides all interested persons an opportunity to view and/or print the EA via the internet through the Commission's Home Page (http://www.ferc.gov) using the eLibrary link. Enter the docket number, excluding the last three digits in the docket number field, to access the document. At this time, the Commission has suspended access to Commission's Public Reference Room, due to the proclamation declaring a National Emergency concerning the Novel Coronavirus Disease (COVID-19), issued by the President on March 13, 2020. For assistance, contact FERC Online Support at FERCOnlineSupport@ferc.gov or toll-free at (866)-208-3676, or for TTY, (202) 502-8659. You may also register online at http://www.ferc.gov/docs-filing/esubscription.asp to be notified via email of new filings and issuances related to this or other pending projects. For assistance, contact FERC Online Support.

Any comments should be filed within 30 days from the date of this notice. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. The first page of any filing should include docket number P-10624-026.

For further information, contact Jay Summers at (202) 502-8764 or by email at jay.summers@ferc.gov.

Dated: June 16, 2020.
Kimberly D. Bose,
Secretary.

[FR Doc. 2020-13446 Filed 6-22-20; 8:45 am]

BILLING CODE 6717-01-P